DEPARTMENT OF COMMERCE

Foreign-Trade Zones Board

[B-41-2024]

Foreign-Trade Zone (FTZ) 52, Notification of Proposed Production Activity; Photonics Industries International Inc.; (Laser Systems); Ronkonkoma, New York

Photonics Industries International Inc. submitted a notification of proposed production activity to the FTZ Board (the Board) for its facility in Ronkonkoma, New York within FTZ 52. The notification conforming to the requirements of the Board's regulations (15 CFR 400.22) was received on July 18, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include air-cooled laser systems (green, infrared, ultraviolet, or deep-ultraviolet wavelengths) and water-cooled laser systems (green, infrared, ultraviolet, or deep-ultraviolet wavelengths) (duty rate is duty-free).

The proposed foreign-status materials/components include: hard coated aluminum enclosures; aluminum components (enclosures; screws; lens mounts; mounting plates; fixtures); gold-plated laser crystal mounts; rubber O-rings; copper components (mounting plates; fixtures; crystal mounts); stainless steel components (lens mounts; fixtures; mounting plates); brass components (lens mounts; fixtures; mounting plates); circuit board assemblies; AC-DC power supplies; water flow sensors; silica gel cartridges; laser diodes; laser crystals; laser lenses; laser mirrors; optical fiber cables; optical patch cables; optical isolators; air-cooled laser systems (green, infrared, ultraviolet, or deep-ultraviolet wavelengths); and, water-cooled laser systems (green, infrared, ultraviolet, or deep-ultraviolet wavelengths) (duty rate ranges from duty-free to 6.3%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is September 4, 2024.

A copy of the notification will be available for public inspection in the “Online FTZ Information System” section of the Board's website.

For further information, contact Juanita Chen at juanita.chen@trade.gov.

Dated: July 22, 2024.
Camille R. Evans,
Acting Executive Secretary.

[FR Doc. 2024-16437 Filed 7-25-24; 8:45 am]

BILLING CODE 3510-DS-P